DEPARTMENT OF ENERGY

Federal Energy Regulatory Commission

[Docket No. CP01-30-001]

OkTex Pipeline Company; Notice of Compliance Filing

February 9, 2001.

Take notice that on January 15, 2001, OkTex Pipeline Company (OkTex) filed tariff sheets to comply with the Commission's Order Approving Abandonments and Issuing Certificate issued on December 1, 2000 in Docket NO. CP01-30-000.

OkTex states that the tariff sheets reflect the adoption of the rates related to the facilities abandoned by ONEOK Midstream Pipeline, Inc. (Midstream) to service over the facilities by OkTex as authorized in Docket No. CP01-30-000. Pursuant to the above-mentioned order, OkTex will assure that there is no rate impact on the existing interruptible customers by including all discount arrangements previously negotiated by Midstream and its shippers.

OkTex states that copies of the filing have been mailed to all affected customers and state regulatory commissions.

Any person desiring to be heard or to protest said filing should file a petition to intervene or protest with the Federal Energy Regulatory Commission, 888 First Street, NE., Washington, DC 20426, in accordance with Section 385.211 of the Commission's Rules and Regulations. All such petitions or protests must be filed in accordance with Section 154.210 of the Commission's Regulations. Protests will be considered by the Commission in determining the appropriate action to be taken, but will not serve to make protestants parties to the proceeding. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See 18 CFR 385.2001(a)(1)(iii) and the instructions on the Commission's web site at http://www.ferc.fed.us/efi/doorbell.htm.

Linwood A. Watson, Jr.,
Acting Secretary.

[FR Doc. 01-3806 Filed 2-14-01; 8:45 am]

BILLING CODE 6717-01-M